DEPARTMENT OF ENERGY

Federal Energy Regulatory Commission

[Docket No. AD15-4-000]

Technical Conference on Environmental Regulations and Electric Reliability, Wholesale Electricity Markets, and Energy Infrastructure; Supplemental Notice of Technical Conference

As announced in the Notice of Technical Conferences issued on December 9, 2014 ¹ and the Supplemental Notice of Technical Conferences issued on January 6, 2015,² the Federal Energy Regulatory Commission (Commission) staff will hold a Western Region ³ technical conference to discuss implications of compliance approaches to the Clean Power Plan proposed rule, issued by the Environmental Protection Agency (EPA) on June 2, 2014.⁴ The technical conference will focus on issues related to electric reliability, wholesale electric markets and operations, and energy infrastructure in the Western region. The Commission will hold the Western Region technical conference on February 25, 2015, from approximately 9:00 a.m. to 4:30 p.m. at the Renaissance Denver Hotel, 3801 Quebec Street, Denver, CO 80207 (Phone: (303) 399-7500). This conference is free of charge and open to the public. Commission members may participate in the conference. The agenda for the Western Region technical conference is attached to this Supplemental Notice of Technical Conference.

¹ Technical Conference on Environmental Regulations and Electric Reliability, Wholesale Electricity Markets, and Energy Infrastructure, Docket No. AD15-4-000, (Dec. 9, 2014) (Notice of Technical Conferences), available at http://www.ferc.gov/CalendarFiles/20141209165657-AD15-4-000TC.pdf.

² Technical Conference on Environmental Regulations and Electric Reliability, Wholesale Electricity Markets, and Energy Infrastructure, Docket No. AD15-4-000, (Jan. 6, 2015) (Supplemental Notice of Technical Conferences), available at http://www.ferc.gov/CalendarFiles/20150106170115-AD15-4-000TC1.pdf.

³ For purposes of this conference, the Western Region includes all the areas in the Western Interconnection, including the California Independent System Operator (CAISO).

⁴ Carbon Pollution Emission Guidelines for Existing Stationary Sources: Electric Utility Generating Units, 79 FR 34,830 (2014) (Proposed Rule), available at http://www.gpo.gov/fdsys/pkg/FR-2014-06-18/pdf/2014-13725.pdf.

Those interested in speaking at the technical conference should notify the Commission by January 30, 2015 by completing the online form at the following Web page: https://www.ferc.gov/whats-new/registration/02-25-15-speaker-form.asp. At this Web page, please provide an abstract (700 character limit) of the issue(s) you propose to address. Due to time constraints, we expect to not be able to accommodate all those interested in speaking. Selected speakers will be notified as soon as possible.

If you have not already done so, those who plan to attend the technical conference are strongly encouraged to complete the registration form located at: https://www.ferc.gov/whats-new/registration/02-25-15-form.asp. There is no registration deadline to attend the conference.

The Commission will post information on the technical conference on the Calendar of Events on the Commission's Web site, http://www.ferc.gov, prior to the conference. The Western Region technical conference will also be transcribed. Transcripts of the technical conference will be available for a fee from Ace-Federal Reporters, Inc. ((202) 347-3700 or 1 (800) 336-6646). There will also be a free audiocast of the conference. The audiocast will allow persons to listen to the Western region technical conference, but not participate. Anyone with Internet access who desires to listen to the Western region conference can do so by navigating to www.ferc.gov' s Calendar of Events and locating the Western region technical conference in the Calendar. The Western region technical conference will contain a link to its audiocast.⁵

⁵ The audiocast will continue to be available on the Calendar of Events on the Commission's Web site www.ferc.gov for three months after the conference.

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For more information about the technical conferences, please contact:

Logistical Information:Sarah McKinley, Office of External Affairs, Federal Energy Regulatory Commission, 888 First Street NE., Washington, DC 20426, (202) 502-8368, sarah.mckinley@ferc.gov.

Legal Information:Alan Rukin, Federal Energy Regulatory Commission, 888 First Street NE., Washington, DC 20426, (202) 502-8502, alan.rukin@ferc.gov.

Technical Information, Matthew Jentgen, Federal Energy Regulatory Commission, 888 First Street NE., Washington, DC 20426, (202) 502-8725, matthew.jentgen@ferc.gov.

Technical Information:Michael Gildea, Federal Energy Regulatory Commission, 888 First Street NE., Washington, DC 20426, (202) 502-8420, michael.gildea@ferc.gov.

Dated: January 26, 2015.
Kimberly D. Bose,
Secretary.

[FR Doc. 2015-02118 Filed 2-3-15; 8:45 am]

BILLING CODE 6717-01-P